DEPARTMENT OF ENERGY

Federal Energy Regulatory Commission

[Docket No. ER13-64-000, et al.]

Notice of FERC Staff Attendance; PacifiCorp, et al.

| Docket No.
Deseret Generation & Transmission Cooperative, Inc | ER13-65-000
Northwestern Corporation (Montana) | ER13-67-000
Portland General Electric Company | ER13-68-000
Idaho Power Company | ER13-127-000
Public Service Company of Colorado | ER13-75-000
Terra-Gen Dixie Valley, LLC | ER13-76-000
Tucson Electric Power Company | ER13-77-000
UNS Electric, Inc | ER13-78-000
Public Service Company of New Mexico | ER13-79-000
Arizona Public Service Company | ER13-82-000
El Paso Electric Company | ER13-91-000
Black Hills Power, Inc., et al | ER13-96-000
Black Hills Colorado Electric Utility Company | ER13-97-000
NV Energy, Inc | ER13-105-000
Cheyenne Light, Fuel and Power Company | ER13-120-000
Avista Corporation | ER13-93-000
Avista Corporation | ER13-94-000
Puget Sound Energy | ER13-98-000
Puget Sound Energy | ER13-99-000
Bonneville Power Administration | NJ13-1-000
California Independent System Operator Corporation | ER13-103-000

The Federal Energy Regulatory Commission (Commission) hereby gives notice that on November 5, 2012, members of its staff will attend a meeting conducted by the California Independent System Operator regarding the interregional coordination requirements established by Order No. 1000. The agenda and other documents for the meeting are available at www.caiso.com.

The meeting is open to all stakeholders and Commission staff's attendance is part of the Commission's ongoing outreach efforts. The meeting may discuss matters at issue in the above captioned dockets.

For further information, contact Saeed Farrokhpay at saeed.farrokhpay@ferc.gov.

Dated: October 31, 2012.
Kimberly D. Bose,
Secretary.

[FR Doc. 2012-27013 Filed 11-5-12; 8:45 am]

BILLING CODE 6717-01-P